DEPARTMENT OF TRANSPORTATION

Federal Aviation Administration

Miscellaneous Non-Required Equipment

AGENCY: Federal Aviation Administration, DOT.

ACTION: Notice of availability and request for public comment.

SUMMARY: This notice announces the availability of and requests comments on a proposed Technical Standard Order (TSO) C138, Miscellaneous Non-Required Equipment. This TSO is limited in applicability to equipment that is not intended to be used in the cockpit, nor impact pilot workload. This TSO establishes equipment categories which are classified based upon compliance to published aircraft standards. The TSO equipment manufacturer is provided guidelines for developments and documentation of equipment functional performance requirements and test conditions. The TSO equipment manufacturer is expected to provide evidence of having satisfied the declared functional performance and test conditions under defined environmental test conditions. For those equipment which contain software, the equipment manufacturer must provide evidence of having satisfied minimum software design assurance development criteria. This TSO also identifies equipment classes marked “<RESERVED>” for equipment standards to be defined in the future. These “<RESERVED>” equipment classes are intended to allow for future TSO C138 expansion of aircraft standards for elective compliance by the equipment manufacturer.

DATES: Comments submitted must be received on or before July 31, 2002.

ADDRESSES: Send all comments on the proposed TSO to: Federal Aviation Administration (FAA), Aircraft Certification Service, Aircraft Engineering Division, Avionic Systems Branch, AIR-130, 800 Independence Avenue, SW., Washington, DC 20591. Or deliver comments to: Federal Aviation Administration, Room 815, 800 Independence Avenue SW., Washington, DC 20591.

FOR FURTHER INFORMATION CONTACT: Michelle Swearingen, Federal Aviation Administration (FAA), Aircraft Certification Service Aircraft Engineering Division, Avionic Systems Branch, AIR-130, 800 Independence Avenue SW., Washington, DC 20591, Telephone: (202) 267-9897, FAX: (202) 267-5340.

SUPPLEMENTARY INFORMATION:

Comments Invited

Interested person are invited to comment on the proposed TSO listed in this notice by submitting such written data, views, or arguments, as they desire, to the above specified address. Comments must be marked “Comments to TSO-C138.” Comments received on the draft TSO may be examined both before and after the closing date, in Room 815, FAA Headquarters Building (FOB-10A), 800 Independence Avenue SW., Washington, DC 20591, weekdays except Federal holidays, between 8:30 a.m. and 4:30 p.m. All communications received on or before the closing data for comments specified will be considered by the Director of the Aircraft Certification Service before issuing the final TSO.

Background

Design and production approval under the FAA Technical Standard Order (TSO) program offers numerous advantages to the equipment manufacturer, equipment installer and the FAA Aircraft Certification Service. The proposed TSO is intended to provide equipment manufacturers ability to produce equipment without specifically tying the equipment to a given make/model of aircraft. Design and production approval under this TSO is intended to afford the equipment manufacturer and installer limited certification reuse credit. Equipment marked as compliant with the proposed TSO is anticipated to require less overall regulatory review during the installation process, since the equipment would be marked as having been found compliant to a given set of equipment standards (e.g., environmental considerations, software design assurance, etc). This inherent certification reuse credit is intended to provide equipment manufacturers increased marketability of equipment currently considered non-traditional TSO articles. Finally, the FAA believes that adoption of this proposed TSO will reduce the overall regulatory review cycle by the Aircraft Certification Offices. The FAA intends to identify success metrics and implements a monitoring program to ensure that any resultant increase in TSO Authorization applications do not result in an unmanageable workload burden upon the Aircraft Certification Offices.

How To Obtain Copies

A copy of the revised draft TSO may be obtained via Internet (http://www.faa.gov/avr/air/airhome.htm) or on request from the individual listed under FOR FURTHER INFORMATION CONTACT.

Issued in Washington, DC., on May 29, 2002.
David W. Hempe,
Manager, Aircraft Engineering Division, Aircraft Certification Service.

[FR Doc. 02-13819 Filed 5-31-02; 8:45 am]

BILLING CODE 4910-13-M